DEPARTMENT OF AGRICULTURE

Submission for OMB Review; Comment Request

May 4, 2017.

The Department of Agriculture has submitted the following information collection requirement(s) to OMB for review and clearance under the Paperwork Reduction Act of 1995, Public Law 104-13. Comments are requested regarding (1) whether the collection of information is necessary for the proper performance of the functions of the agency, including whether the information will have practical utility; (2) the accuracy of the agency's estimate of burden including the validity of the methodology and assumptions used; (3) ways to enhance the quality, utility and clarity of the information to be collected; and (4) ways to minimize the burden of the collection of information on those who are to respond, including through the use of appropriate automated, electronic, mechanical, or other technological collection techniques or other forms of information technology.

Comments regarding this information collection received by June 8, 2017 will be considered. Written comments should be addressed to: Desk Officer for Agriculture, Office of Information and Regulatory Affairs, Office of Management and Budget (OMB), OIRA_Submission@omb.eop.gov or fax (202) 395-5806 and to Departmental Clearance Office, USDA, OCIO, Mail Stop 7602, Washington, DC 20250-7602. Copies of the submission(s) may be obtained by calling (202) 720-8958.

An agency may not conduct or sponsor a collection of information unless the collection of information displays a currently valid OMB control number and the agency informs potential persons who are to respond to the collection of information that such persons are not required to respond to the collection of information unless it displays a currently valid OMB control number.

Food and Nutrition Service

Title: Child Nutrition Program Operations Study II (CN-OPS II).

OMB Control Number: 0584-0607.

Summary of Collection: The objective of the Child Nutrition Program Operations Study II (CN-OPS-II) is to collect timely data on policies, administrative, and operational issues on the Child Nutrition Programs (CNP). The study will help FNS obtain general descriptive data on the child nutrition programs' characteristics needed to respond to questions concerning those programs; obtain data related to program administration for designing and revising program regulations, managing resources, and reporting requirements; and obtain data related to program operations to help FNS develop and provide training and technical assistance to the School Food Authorities and State Agencies responsible for administering these programs.

Need and Use of the Information: This study will survey School Food Authority and State Child Nutrition directors. FNS will use the data to understand how recent and proposed legislation, regulations, policies, and initiatives change the operations in the child nutrition programs and to describe trends in the programs' participation and operational practices, as well as aspects of particular operations.

Description of Respondents: State, Local, or Tribal Government.

Number of Respondents: 3,379.

Frequency of Responses: Reporting: Annually.

Total Burden Hours: 4,099.

Ruth Brown,
Departmental Information Collection Clearance Officer.

[FR Doc. 2017-09396 Filed 5-8-17; 8:45 am]

BILLING CODE 3410-30-P